ENVIRONMENTAL PROTECTION AGENCY

[FRL-7002-6]

Motorola 52nd Street Superfund Site Phoenix, AZ; Proposed Notice of Administrative Settlement

AGENCY: Environmental Protection Agency

ACTION: Notice; Request for public comment

SUMMARY: In accordance with the Comprehensive Environmental Response, Compensation and Liability Act of 1980, as amended by the Superfund Amendments and Reauthorization Act of 1986 (CERCLA), 42 U.S.C sections 9600 et seq.,notice is hereby given that a proposed Agreement and Covenant Not to Sue (Prospective Purchaser Agreement) associated with the Motorola 52nd Street Superfund Site (the Site) was executed by the United States Environmental Protection Agency (EPA) on June 13,2001. The Prospective Purchaser Agreement would resolve certain potential claims of the United States under sections 106 and 107(a) of CERCLA, 42 U.S.C sections 9606 and 9607(a), and section 7003 of the Resource Conservation and Recovery Act (RCRA), 42 U.S.C. section 6973, against the City of Phoenix, a municipal corporation of the State of Arizona (City). City plans to acquire six (6) parcels of land comprising 22.1 acres within Operable Unit 2 (OU2) of the Site by purchase or condemnation as part of an expansion plan for Sky Harbor International Airport in Phoenix. City plans to use these parcels for aviation-related purposes, including airfields, terminals, parking operations, air cargo operations, car rental operations, airport administrative functions and aircraft maintenance operations. City will pay EPA$100,000, will provide access to these parcels to EPA if and as necessary to accomplish cleanup of the Site and will implement institutional controls on these properties if and as requested by EPA.

For thirty (30) calendar days following the date of publication of this notice, EPA will receive written comments relating to the proposed settlement. If requested prior to the expiration of this public comment period, EPA will provide an opportunity for a public meeting in the affected area. EPA's response to any comments received will be available for public inspection at the U.S. Environmental Protection Agency, 75 Hawthorne Street, San Francisco, California 94105.

DATES: Comments must be submitted on or before July 27, 2001.

ADDRESSES: The proposed Prospective Purchaser Agreement and additional background documents relating to the settlement are available for public inspection at the U.S. Environmental Protection Agency, 75 Hawthorne Street, San Francisco, CA 94105. A copy of the proposed settlement may be obtained from James Collins, Assistant Regional Counsel (ORC-3), Office of Regional Counsel, U.S. EPA Region IX, 75 Hawthorne Street, San Francisco, CA 94105. Comments should reference “City of Phoenix PPA, Motorola 52nd Street Site” and Docket No. 2000-06, and should be addressed to James Collins at the above address.

FOR FURTHER INFORMATION CONTACT: James Collins, Assistant Regional Counsel (ORC-3), Office of Regional Counsel, U.S. EPA Region IX, 75 Hawthorne Street, San Francisco, CA 94105; phone: (415) 744-1345; fax: (415) 744-1041; e-mail: collins.jim@epa.gov

Dated: June 15, 2001.
Keith Takata,
Director, Superfund Division, U.S.EPA, Region IX.

[FR Doc. 01-16115 Filed 6-26-01; 8:45 am]

BILLING CODE 6560-50-P